DEPARTMENT OF DEFENSE

48 CFR Part 30

Changes in Cost of Accounting Practices

AGENCY: Department of Defense (DoD).

ACTION: Notice of public meeting.

SUMMARY: The Office of the Director of Defense Procurement, in conjunction with the National Contract Management Association, is sponsoring additional public meetings to discuss alternatives to the Cost Accounting Standards Board's Supplemental Notice of Proposed Rulemaking (SNPRM-II) regarding “Changes in Cost Accounting Practices,” published in the Federal Register at 64 FR 45700 on August 20, 1999. The Office of the Director of Defense Procurement would like to hear the views of interested parties on the current version of their recommended alternative to the approach proposed by the Cost Accounting Standards Board in SNPRM-II. The current version is available on the Internet Home Page of the Office of Cost, Pricing, and Finance at http://www.acq.osd.mil/dp/cpf.

The Office of the Director of Defense Procurement is particularly interested in obtaining comments concerning three areas of its recommended alternatives:

1. The definition of “similar functions” and “similar activities.”

2. The proper treatment of pool combinations, pool split-outs, and functional transfers that occur between two viable operating segments or that involve different organizational levels within the company.

3. Whether an exemption is necessary, and if so, the criteria needed to implement such an exemption.

The Office of the Director of Defense Procurement will evaluate the input received and, if determined necessary, provide a revised or amended version of its alternative to the Chairman of the Cost Accounting Standards Board for the Board's consideration.

DATES: The next public meeting will be held on February 10, 2000, from 9 a.m. until 4 p.m. Based on the nature and extent of input received, additional public meetings may be held in the days and weeks following February 10. The dates and times of those meetings will be made available on http://www.acq.mil/dp/cpf, as soon as they are scheduled.

ADDRESSES: The meeting will be held at the National Contract Management Association, 1912 Woodford Drive, Vienna, VA 22182. Directions may be found on the Internet at http://www.acq.osd.mil/dp/cpf.

FOR FURTHER INFORMATION CONTACT: Mr. David Capitano, Office of Cost, Pricing, and Finance, by telephone at (703) 695-7249, by FAX at (703) 693-9616, or by e-mail at capitadj@acq.osd.mil; or Ms. Claudia Low, National Contract Management Association, by telephone at (703) 734-5440.

Michele P. Peterson,
Executive Editor, Defense Acquisition Regulations Council.

[FR Doc. 00-2241 Filed 2-1-00; 8:45 am]

BILLING CODE 5000-04-M